DEPARTMENT OF HEALTH AND HUMAN SERVICES

Office of the Secretary

Findings of Misconduct in Science; Correction

AGENCY: Office of the Secretary, HHS.

ACTION: Correction of notice.

SUMMARY: This document corrects typographical errors that appeared in the notice published in the January 28, 2010, Federal Register entitled “Findings of Misconduct in Science.”

DATES: Effective Date: February 10, 2010.

Applicability Date: The correction notice is applicable for the Findings of Misconduct in Science notice published on January 28, 2010.

FOR FURTHER INFORMATION CONTACT: Karen Gorirossi or Sheila Fleming at 240-453-8800.

SUPPLEMENTARY INFORMATION:

I. Background

In FR Doc. 2010-1706 of January 28, 2010 (75 FR 4566), there were two typographical errors. The errors are identified and corrected in the Correction of Errors section below.

II. Correction of Errors

In FR Doc. 2010-1706 of January 28, 2010 (75 FR 4566), make the following corrections:

1. On page 4566, second column, first paragraph, change the date of January 7, 2010, to January 5, 2010, so that the first paragraph reads as follows: “Summary: Notice is hereby given that on January 5, 2010, the Department of Health and Human Services (HHS) Debarring Official, on behalf of the Secretary of HHS, issued a final notice of debarment based on the misconduct in science findings of the Office of Research Integrity (ORI) in the following case:”

2. On page 4566, third column, last line of the first paragraph, change the date of January 7, 2010, to January 5, 2010, so that the last line of this paragraph reads as follows: “Thus, the scientific misconduct findings set forth above became effective, and the following administrative actions have been implemented for a period of three (3) years, beginning on January 5, 2010.”

Dated: January 29, 2010.
John Dahlberg,
Director, Division of Research Investigations, Office of Research Integrity.

[FR Doc. 2010-2488 Filed 2-9-10; 8:45 am]

BILLING CODE 4160-17-P